DEPARTMENT OF ENERGY

Federal Energy Regulatory Commission

[Project No. 1858-023]

Beaver City Corporation Notice of Application Accepted for Filing and Soliciting Motions To Intervene and Protests

Take notice that the following hydroelectric application has been filed with the Commission and is available for public inspection.

a. Type of Application: Subsequent Minor License.

b. Project No.: P-1858-023.

c. Date filed: July 30, 2021.

d. Applicant: Beaver City Corporation.

e. Name of Project: Beaver City Canyon Plant No. 2 Hydroelectric Project.

f. Location: The existing hydroelectric project is located on the Beaver River, in Beaver County, Utah, about 5 miles east of the city of Beaver. The project currently occupies 10.2 acres of federal land administered by the U.S. Forest Service, and 2.4 acres of federal land managed by the U.S. Bureau of Land Management. As proposed, the project would occupy 10.5 acres of federal land administered by the U.S. Forest Service and 2.4 acres of federal land administered by the U.S. Bureau of Land Management.

g. Filed Pursuant to: Federal Power Act, 16 U.S.C. 791(a)-825(r).

h. Applicant Contact: Mr. Jason Brown, Beaver City Manager, 30 West 300 North, Beaver, UT 84713; (435) 438-2451.

i. FERC Contact: Evan Williams, (202) 502-8462, or at evan.williams@ferc.gov.

j. Deadline for filing motions to intervene and protests: 60 days from the issuance date of this notice.

The Commission strongly encourages electronic filing. Please file motions to intervene and protests using the Commission's eFiling system at http://www.ferc.gov/docs-filing/efiling.asp. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Beaver City Canyon Plant No. 2 Hydroelectric Project (P-1858-023).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted, but is not ready for environmental analysis at this time.

l. Project Description: The existing project consists of: (1) A 17-foot-high by 65-foot-wide diversion dam; (2) a 30-inch-diameter, 11,450-foot-long black steel penstock; (3) a 34-foot-long by 41-foot-wide stone powerhouse containing an impulse turbine and one generating unit with an installed capacity of 625 kilowatts; (4) a 4-foot-wide by 150-foot-long tailrace channel; (5) a 12.5-kilovolt, approximately 21,000-foot-long transmission line; and (6) appurtenant facilities. The estimated average annual generation (2012 to 2017) is 4,446 megawatt-hours.

Beaver City Corporation proposes to abandon the existing: (1) Powerhouse; (2) portion of penstock between the existing powerhouse and proposed new powerhouse; (3) buried line from the turbine generator to the transformer on the west side of the existing powerhouse; (4) old transformer; (5) overhead line from the old transformer to the start of the transmission line on the west bank of the Beaver River; and (6) tailrace. As such, Beaver City Corporation proposes to remove approximately 50-feet of the existing penstock and construct: (1) A new 40-foot-long by 27-foot-wide metal-walled powerhouse to contain one new turbine-generator with an installed capacity of 720 kilowatts; (2) a new buried line of unknown dimensions from the new turbine-generator to the new transformer; (3) a new buried line of unknown dimensions from the new transformer to an intermediate pole; (4) a new overhead line of unknown dimensions from the intermediate pole to the start of the existing transmission line; and (5) a new approximately 50-foot-long by approximately 10-foot-wide rock-lined tailrace. The new powerhouse, power distribution facilities, and tailrace would be constructed approximately 50 feet upstream of the existing powerhouse, and the existing powerhouse would be retained within the project boundary as an historic structure.

m. A copy of the application is available for review on the Commission's website (http://www.ferc.gov), using the “eLibrary” link. Enter the docket number, excluding the last three digits in the docket number field to access the document. For assistance, contact FERC Online Support.

You may also register online at http://www.ferc.gov/docs-filing/esubscription.asp to be notified via email of new filings and issuances related to this or other pending projects. For assistance, contact FERC Online Support.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

o. Procedural schedule: The application will be processed according to the following preliminary schedule. Revisions to the schedule will be made as appropriate.

Commission issues Scoping Document 1 | February 2022.
Deadline for Filing Motions to Intervene and Protests | March 14, 2022.
Filing of Scoping Comments | March 2022.
Commission issues Request for Additional Information (if necessary) | April 2022.
Commission issues Scoping Document 2 (if necessary) | May 2022.
Commission issues Notice of Ready for Environmental Analysis | May 2022.
Filing of comments, recommendations, preliminary terms and conditions, and preliminary fishway prescriptions | July 2022.
Filing of Reply Comments | September 2022.

Dated: January 13, 2022.
Kimberly D. Bose,
Secretary.

[FR Doc. 2022-01041 Filed 1-19-22; 8:45 am]

BILLING CODE 6717-01-P